DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 5, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal Plant and Health Inspection Service

Title: National Veterinary Services Laboratories Request Forms.

OMB Control Number: 0579-0430.

Summary of Collection: The Animal Health Protection Act (7 U.S.C. 8301-8317) provides the Secretary of Agriculture broad authority to prohibit or restrict, through orders and regulations, the importation or entry of any animal, article, or means of conveyance if USDA determines that the prohibition or restriction is necessary to prevent the introduction or spread of any pest or disease of livestock within the United States. Disease prevention is the most effective method for maintaining a healthy animal population.

In connection with this disease prevention mission, the Animal and Plant Health Inspection Service (APHIS) National Veterinary Services Laboratories (NVSL) safeguard U.S. animal health and contribute to public health by ensuring that timely and accurate laboratory support is provided by their nationwide animal health diagnostic system.

Need and Use of the Information: APHIS will collect information using VS Form 4-9, Request for Reagents or Supplies; VS Form 4-10, NVSL Customer Contact Update; and VS Form 4-11, NVSL Application for Laboratory Training and; VS Form 12, NVSL Laboratories Kit and Instrument Order form. These forms are used to safeguard the U.S. animal population from pests and diseases. If the information was collected less frequently or not collected, APHIS would be unable to process reagent orders or provide requested training.

Description of Respondents: Foreign Federal Government; Individuals or households; Businesses; State, Local or Tribal Government.

Number of Respondents: 970.

Frequency of Responses: Reporting: On occasion.

Total Burden Hours: 1,013.

Rachelle Ragland-Greene,
Departmental Information Collection Clearance Officer.

[FR Doc. 2024-25675 Filed 11-4-24; 8:45 am]

BILLING CODE 3410-34-P